DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arkansas: Benton, (FEMA Docket No.: B-2164). | City of Bentonville, (21-06-0311P). | The Honorable Stephanie Orman, Mayor, City of Bentonville, 305 Southwest A Street, Bentonville, AR 72712. | City Hall, 3200 Southwest Municipal Drive, Bentonville, AR 72712. | Dec. 20, 2021 | 050012
Colorado:
Denver, (FEMA Docket No.: B-2164). | City and County of Denver, (21-08-0407P). | The Honorable Michael B. Hancock, Mayor, City and County of Denver, 1437 Bannock Street, Room 350, Denver, CO 80202. | Department of Public Works, 201 West Colfax Avenue, Denver, CO 80202. | Dec. 27, 2021 | 080046
El Paso, (FEMA Docket No.: B-2164). | City of Colorado Springs, (21-08-0112P). | The Honorable John Suthers, Mayor, City of Colorado Springs, 30 South Nevada Avenue, Suite 601, Colorado Springs, CO 80903. | Pikes Peak Regional Development Center, 2880 International Circle, Colorado Springs, CO 80910. | Dec. 20, 2021 | 080060
Larimer, (FEMA Docket No.: B-2171). | Town of Johnstown, (21-08-0288P). | Mr. Matt LeCerf, Manager, Town of Johnstown, 450 South Parish Avenue, Johnstown, CO 80534. | Planning and Development Department, 450 South Parish Avenue, Johnstown, CO 80534. | Dec. 27, 2021 | 080250
Larimer, (FEMA Docket No.: B-2171). | Unincorporated areas of Larimer County, (21-08-0288P). | The Honorable John Kefalas, Chairman, Larimer County Board of Commissioners, 200 West Oak Street, Suite 2200, Fort Collins, CO 80521. | Larimer County Engineering Department, 200 West Oak Street, Suite 3000, Fort Collins, CO 80521. | Dec. 27, 2021 | 080101
Connecticut: New Haven, (FEMA Docket No.: B-2171). | Town of Guilford, (21-01-0936P). | The Honorable Matthew T. Hoey, III, First Selectman, Town of Guilford, Board of Selectmen, 31 Park Street, Guilford, CT 06437. | Engineering Department, 50 Boston Street, Guilford, CT 06437. | Dec. 17, 2021 | 090077
Florida:
Miami-Dade | City of Doral, (21-04-2105P). | The Honorable Juan Carlos Bermudez, Mayor, City of Doral, 8401 Northwest 53rd Terrace, Doral, FL 33166. | Building Department, 8401 Northwest 53rd Terrace, Doral, FL 33166. | Dec. 27, 2021 | 120041
Monroe | Village of Islamorada, (21-04-3944P). | The Honorable Buddy Pinder, Mayor, Village of Islamorada, 86800 Overseas Highway, Islamorada, FL 33036. | Building Department, 86800 Overseas Highway, Islamorada, FL 33036. | Dec. 27, 2021 | 120424
Palm Beach, (FEMA Docket No.: B-2164). | Unincorporated areas of Palm Beach County, (20-04-4796P). | Ms. Verdenia C. Baker, Palm Beach County Administrator, 301 North Olive Avenue, 11th Floor, West Palm Beach, FL 33401. | Palm Beach County Planning, Zoning and Building Department, 2300 North Jog Road, West Palm Beach, FL 33411. | Dec. 20, 2021 | 120192
Sarasota, (FEMA Docket No.: B-2171). | Unincorporated areas of Sarasota County, (21-04-4167P). | The Honorable Alan Maio, Chairman, Sarasota County Board of Commissioners, 1660 Ringling Boulevard, Sarasota, FL 34236. | Sarasota County Planning and Development Services Department, 1001 Sarasota Center Boulevard, Sarasota, FL 34236. | Dec. 29, 2021 | 125144
Georgia: Richmond, (FEMA Docket No.: B-2171). | City of Augusta, (21-04-3238X). | The Honorable Hardie Davis, Jr., Mayor, City of Augusta, 535 Telfair Street, Suite 200, Augusta, GA 30901. | Planning and Development Department, 535 Telfair Street, Suite 300, Augusta, GA 30901. | Dec. 27, 2021 | 130158
Louisiana:
Jefferson, (FEMA Docket No.: B-2171). | City of Harahan, (20-06-2494P). | The Honorable Tim Baudier, Mayor, City of Harahan, 6437 Jefferson Highway, Harahan, LA 70123. | City Hall, 6437 Jefferson Highway, Harahan, LA 70123. | Dec. 29, 2021 | 225200
Jefferson, (FEMA Docket No.: B-2171). | Unincorporated areas of Jefferson Parish, (20-06-2494P). | The Honorable Cynthia Lee Sheng, Jefferson Parish President, 1221 Elmwood Park Boulevard, 10th Floor, Jefferson, LA 70123. | Jefferson Parish, Joseph S. Yenni Building, 1221 Elmwood Park Boulevard, Suite 310, Jefferson, LA 70123. | Dec. 29, 2021 | 225199
Maryland: Prince George's, (FEMA Docket No.: B-2171). | City of Laurel, (21-03-0404P). | The Honorable Craig A. Moe, Mayor, City of Laurel, 8103 Sandy Spring Road, Laurel, MD 20707. | City Hall, 8103 Sandy Spring Road, Laurel, MD 20707. | Dec. 27, 2021 | 240053
Massachusetts: Worcester, (FEMA Docket No.: B-2178). | Town of Holden, (20-01-1690P). | The Honorable Chiara M. Barnes, Chair, Town of Holden, Board of Selectmen, 1204 Main Street, Holden, MA 01520. | Town Hall, 1204 Main Street, Holden, MA 01520. | Jan. 3, 2022 | 250309
Montana: Lewis and Clark, (FEMA Docket No.: B-2171). | Unincorporated areas of Lewis and Clark County, (21-08-0279P). | The Honorable Andy Hunthausen, Chairman, Lewis and Clark County Board of Commissioners, 316 North Park Avenue, Suite 345, Helena, MT 59623. | Lewis and Clark County Municipality Building, 316 North Park Avenue, Suite 230, Helena, MT 59623. | Dec. 20, 2021 | 300038
New Hampshire: Rockingham, (FEMA Docket No.: B-2171). | Town of Salem, (21-01-0607P). | The Honorable Cathy A. Stacey, Chair, Town of Salem, Board of Selectmen, 33 Geremonty Drive, Salem, NH 03079. | Town Hall, 33 Geremonty Drive, Salem, NH 03079. | Jan. 3, 2022 | 330142
North Carolina:
Wake, (FEMA Docket No.: B-2188). | Town of Apex, (20-04-4719P). | The Honorable Jacques Gilbert, Mayor, Town of Apex, P.O. Box 250, Apex, NC 27502. | Engineering Department, 73 Hunter Street, Apex, NC 27502. | Dec. 23, 2021 | 370467
Wake, (FEMA Docket No.: B-2188). | Town of Cary, (20-04-4719P). | The Honorable Harold Weinbrecht, Mayor, Town of Cary, P.O. Box 8005, Cary, NC 27512. | Stormwater Services Division, 316 North Academy Street, Cary, NC 27513. | Dec. 23, 2021 | 370238
Wake, (FEMA Docket No.: B-2188). | Unincorporated areas of Wake County, (20-04-4719P). | The Honorable Sig Hutchinson, Chairman, Wake County Board of Commissioners, P.O. Box 550, Raleigh, NC 27602. | Wake County Environmental, Services Department, 336 Fayetteville Street, Raleigh, NC 27601. | Dec. 23, 2021 | 370368
Oklahoma: Washington, (FEMA Docket No.: B-2164). | City of Bartlesville, (21-06-1105P). | The Honorable Dale Copeland, Mayor, City of Bartlesville, 401 South Johnstone Avenue, Bartlesville, OK 74003. | City Hall, 401 South Johnstone Avenue, Bartlesville, OK 74003. | Dec. 20, 2021 | 400220
Pennsylvania: Philadelphia, (FEMA Docket No.: B-2164). | City of Philadelphia, (21-03-0270P). | The Honorable James Kenney, Mayor, City of Philadelphia, 1400 John F. Kennedy Boulevard, Room 215, Philadelphia, PA 19107. | Department of Licenses and Inspections, 1400 John F. Kennedy Boulevard, Room 215, Philadelphia, PA 19107. | Dec. 23, 2021 | 420757
Texas:
Clay, (FEMA Docket No.: B-2171). | City of Henrietta, (20-06-3454P). | The Honorable Roy Boswell, Mayor, City of Henrietta, 101 North Main Street, Henrietta, TX 76365. | City Hall, 101 North Main Street, Henrietta, TX 76365. | Dec. 17, 2021 | 480126
Clay, (FEMA Docket No.: B-2171). | Unincorporated areas of Clay County, (20-06-3454P). | The Honorable Mike Campbell, Clay County Judge, P.O. Box 548, Henrietta, TX 76365. | County-City Municipal Building, 101 North Main Street, Henrietta, TX 76365. | Dec. 17, 2021 | 480742
Comal, (FEMA Docket No.: B-2171). | City of New Braunfels, (21-06-0004P). | The Honorable Rusty Brockman, Mayor, City of New Braunfels, 550 Landa Street, New Braunfels, TX 78130. | City Hall, 550 Landa Street, New Braunfels, TX 78130. | Dec. 27, 2021 | 485493
Comal, (FEMA Docket No.: B-2171). | Unincorporated areas of Comal County, (21-06-0004P). | The Honorable Sherman Krause, Comal County Judge, 100 Main Plaza, New Braunfels, TX 78130. | Comal County Engineering Department, 195 David Jonas Drive, New Braunfels, TX 78132. | Dec. 27, 2021 | 485463
Dallas, (FEMA Docket No.: B-2178). | City of Garland, (21-06-2234P). | The Honorable Scott LeMay, Mayor, City of Garland, P.O. Box 469002, Garland, TX 75046. | Engineering Department, 800 Main Street, Garland, TX 75040. | Jan. 3, 2022 | 485471
Denton, (FEMA Docket No.: B-2164). | City of Corinth, (21-06-0453P). | Mr. Bob Hart, Manager, City of Corinth, 3300 Corinth Parkway, Corinth, TX 76208. | Planning and Development Department, 3300 Corinth Parkway, Corinth, TX 76208. | Dec. 20, 2021 | 481143
Denton, (FEMA Docket No.: B-2164). | City of Denton, (21-06-0453P). | Ms. Sara Hensley, Interim City Manager, City of Denton, 215 East McKinney Street, Suite 100, Denton, TX 76201. | Engineering Department, 901-A Texas Street, Denton, TX 76509. | Dec. 20, 2021 | 480194
Ellis, (FEMA Docket No.: B-2178). | City of Waxahachie (20-06-3749P). | The Honorable Doug Barnes, Mayor, City of Waxahachie, P.O. Box 757, Waxahachie, TX 75168. | Public Works and Engineering Department, 401 South Rogers Street, Waxahachie, TX 75168. | Dec. 20, 2021 | 480211
Harris, (FEMA Docket No.: B-2171). | Unincorporated areas of Harris County, (20-06-1514P). | The Honorable Lina Hidalgo, Harris County Judge, 1001 Preston Street, Suite 911, Houston, TX 77002. | Harris County Permit Office, 10555 Northwest Freeway, Suite 120, Houston, TX 77092. | Dec. 20, 2021 | 480287
Rockwall, (FEMA Docket No.: B-2164). | City of Rockwall, (21-06-1106P). | The Honorable Kevin Fowler, Mayor, City of Rockwall, 385 South Goliad Street, Rockwall, TX 75087. | Engineering Department, 385 South Goliad Street, Rockwall, TX 75087. | Dec. 20, 2021 | 480547

[FR Doc. 2022-01619 Filed 1-26-22; 8:45 am]

BILLING CODE 9110-12-P